DEPARTMENT OF ENERGY

Federal Energy Regulatory Commission

[Docket No. CP06-435-000]

Columbia Gas Transmission Corporation; Notice of Application

September 8, 2006.

Take notice that on August 30, 2006, Columbia Gas Transmission Corporation (Columbia), 1700 MacCorkle Avenue, SE., Charleston, West Virginia 25314, filed with the Commission an application, pursuant to section 7(b) of the Natural Gas Act (NGA), for permission and approval to abandon by sale certain natural gas facilities located in various Ohio counties and to abandon the services being provided through these facilities. Columbia also requests that the Commission find the facilities, when sold, as exempt from the Commission's jurisdiction pursuant to section 1(c) of the NGA, as more fully set forth in the application which is open to public inspection. This filing may be also viewed on the Web at http://www.ferc.gov using the “eLibrary” link. Enter the docket number excluding the last three digits in the docket number field to access the document. For assistance, please contact FERCOnline Support at FERCOnlineSupport@ferc.gov or toll free at (866) 208-3676, or TTY, contact (202) 502-8659.

The facilities that Columbia proposes to abandon by sale for $6.5 million to Cobra Pipeline Co., Ltd. (Cobra) include approximately 217 miles of storage and transmission pipeline, three compressor stations, various delivery and receipt points, mainline taps, rights-of-way, leases, and appurtenances. Columbia states that Cobra, operating as an intrastate pipeline in Ohio, would continue to provide firm transportation service to customers currently serve via the subject facilities. Columbia also states that Cobra would provide service to the customers on a non-discriminatory basis in accordance with its tariff pending approval by the Public Utility Commission of Ohio.

Any questions regarding this application should be directed to Frederic J. George, Lead Counsel, Columbia Gas Transmission Corporation, P.O. Box 1273, Charleston, West Virginia 25325-1273, or via telephone at (304) 357-2359 and facsimile number (304) 357-3206.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions via the Internet in lieu of paper. See, 18 CFR 385.2001(a)(1)(iii) and the instructions on the Commission's Web site (http://www.ferc.gov) under the “e-Filing” link.

Comment Date: September 29, 2006.

Magalie R. Salas,
Secretary.

[FR Doc. E6-15376 Filed 9-15-06; 8:45 am]

BILLING CODE 6717-01-P